DEPARTMENT OF EDUCATION

34 CFR Chapter II

[Docket ID ED-2023-OCTAE-0048]

Final Priorities, Requirements, Definitions, and Selection Criteria—Perkins Innovation and Modernization Grant Program

AGENCY: Office of Career, Technical, and Adult Education, Department of Education.

ACTION: Final priorities, requirements, definitions, and selection criteria.

SUMMARY: The Department of Education (Department) announces priorities, requirements, definitions, and selection criteria for the Perkins Innovation and Modernization (PIM) grant program, Assistance Listing Number 84.051F. The Department may use the priorities, requirements, definitions, and selection criteria for competitions in fiscal year (FY) 2023 and later years. We take this action to support grant competitions that will identify strong and well-designed projects that incorporate evidence-based and innovative strategies and activities to improve student success in secondary education, postsecondary education, and careers.

DATES: The priorities, requirements, definitions, and selection criteria are effective September 13, 2023.

FOR FURTHER INFORMATION CONTACT: Dr. Charles “Bryan” Jenkins, U.S. Department of Education, 400 Maryland Avenue SW, Room 4A192, Washington, DC 20202. Telephone: 202-987-0815. Email: PIMGrants@ed.gov.

If you are deaf, hard of hearing, or have a speech disability and wish to access telecommunications relay services, please dial 7-1-1.

SUPPLEMENTARY INFORMATION:

Purpose of Program: The purpose of the PIM grant program is to identify, support, and independently evaluate evidence-based and innovative strategies and activities to improve and modernize career and technical education (CTE) and align workforce skills with labor market needs. The Department anticipates using the PIM authority beginning in FY 2023 to award competitive grants to support Career Connected High Schools (CCHS) that will transform public high schools by expanding existing and implementing new strategies and supports to help their students identify and navigate pathways to postsecondary education and career preparation, accrue college credit, pursue in-demand and high-value industry-recognized credentials, and gain direct experience in the workplace through work-based learning.

Program Authority: Section 114(e) of the Carl D. Perkins Career and Technical Education Act of 2006, as amended by the Strengthening Career and Technical Education for the 21st Century Act (Perkins V) (20 U.S.C. 2324).

We published a notice of proposed priorities, requirements, definitions, and selection criteria in the Federal Register on May 16, 2023 (88 FR 31196) (the NPP). The notice contained background information and our rationale for proposing the priorities, requirements, definitions, and selection criteria. As discussed in the Analysis of Comments and Changes section of this document, we made substantive changes to Priorities 1, 2, 3 and 4, Application Requirement 3, Program Requirement 3, and the selection criteria. We also added a new application requirement.

Public Comment: In response to our invitation in the NPP, 17 parties submitted comments. Generally, we do not address technical and other minor changes or suggested changes that the law does not authorize us to make. In addition, we do not address comments that are outside the scope of the NPP.

Analysis of Comments and Changes: An analysis of the comments and of any changes in the proposed priorities, requirements, definitions, and selection criteria since publication of the NPP follows. We group major issues according to subject.

Priority 1—Career-Connected High Schools.

Comments: Sixteen commenters expressed general support for Priority 1. One commenter felt that the activities contemplated under Priority 1 are not innovative because they already are allowable uses of funds under the State formula grant program authorized by Perkins V. That commenter instead recommended giving applicants the discretion to determine their use of grant funds.

Discussion: We appreciate the commenters' support for Priority 1. With respect to the commenter who advocated for allowing grantees to determine how they use grant funds, the Department believes that funding projects that meet the requirements of Priority 1 will be more productive in building evidence and advancing equity than funding a set of projects that lack a clear and consistent focus. While the Department acknowledges that the activities described in Priority 1 are allowable uses of funds under the Perkins V State grant program, to the extent States and LEAs are using Federal funds for these activities, they can be expanded to ensure these activities reach all students.

Priority 1 is innovative because it promotes the implementation of these activities all together, equitably, and at a scale that will benefit all students in a high school. For example, the opportunity to participate in dual or concurrent enrollment programs (as defined in section 3 of Perkins V) is now limited to a small group of students. Among the high school class of 2019, only about one-third of white students, about one-quarter of Asian, Native American, and Hispanic students, and less than a fifth of Black students took one or more dual enrollment courses during their time in high school.¹ Other research has documented that students from low-income backgrounds are significantly underrepresented among dual enrollment course-takers.² English learners (ELs) and students with disabilities are also often shut out of dual enrollment opportunities. For example, during the 2017-18 school year, 50 percent of public schools that offered either 11th or 12th grade attended by ELs offered dual enrollment but did not enroll any ELs in such courses, and 37 percent of such schools attended by students with disabilities offered dual enrollment but did not enroll any students with disabilities in such courses.³ Work-based learning opportunities also are uneven in their availability across the country.⁴

¹ U.S. Department of Education, Institute of Education Sciences, National Center for Education Statistics, National Assessment of Educational Progress (2022), 2019 NAEP High School Transcript Study (HSTS) Results: A Closer Look, Retrieved from: https://www.nationsreportcard.gov/hstsreport/#closerlook_3_0_el. Dual credit course-taking by Native American students tabulated using the Data Explorer for the High School Transcript Study at: https://www.nationsreportcard.gov/ndecore/xplore/hsts.

² See, for example, Lochmiller, C.R., et al. (2016), Dual enrollment courses in Kentucky: High school students' participation and completion rates (REL 2016-137). Washington, DC: U.S. Department of Education, Institute of Education Sciences, Retrieved from http://ies.ed.gov/ncee/edlabs/regions/appalachia/pdf/REL_2016137.pdf. Also see Miller, Trey, et al. (2017), Dual Credit Education in Texas: Interim Report, RAND Corporation. Retrieved from: https://www.rand.org/pubs/research_reports/RR2043.html.

³ Fink, John, “How Many Schools in Your State Shut Out Students from Dual Enrollment or AP?” The Mixed Methods Blog (November 10, 2021), Community College Research Center. Retrieved from: https://ccrc.tc.columbia.edu/easyblog/schools-dual-enrollment-ap.html.

⁴ Ross, M., Kazis, R., Bateman, N., and Stateler, L. (2020), Work-Based Learning Can Advance Equity and Opportunity for America's Young People, Brookings Metropolitan Policy Program, Brookings Institution. Retrieved from: https://www.brookings.edu/wp-content/uploads/2020/11/20201120_BrookingsMetro_Work-based-learning_Final_Report.pdf.

The Department's hope is that projects that deliver all four Priority 1 components will be evidence-building pioneers whose results will inspire States and LEAs to implement these activities at scale using their own funds, as well as formula grants from the Department that allow these activities. The Department believes this focused effort will generate greater evidence and improve the outcomes of more students than allowing each applicant to decide how to use limited PIM grant funds.

Changes: None.

Comments: Several commenters recommended that the Department revise Priority 1 to require applicants to address all four components of the priority, rather than only one or more of the components. One commenter urged the Department to amend the priority to require universal student participation in the development of personalized postsecondary and career plans (as defined in this notice), implementation of two of the remaining three components within the grant period, a plan for scaling up all four components during the grant period (or a rationale that describes why this could not be achieved and a timeline for when it would be achieved), and a commitment to develop a plan to sustain these activities after the grant period. Another commenter recommended that the Department revise the priority to require a plan and timeline for implementation of all four components and to amend and weigh the selection criteria so that applicants planning to implement all four components during the grant period are awarded more points by reviewers. Another commenter suggested revising the priority to require applicants to provide a plan for implementing all four components but permit them to focus on implementing only a subset during the grant period. One commenter recommended that the Department align the priority with the keys to college and career success outlined in the Department's Raise the Bar: Unlocking Career Success initiative ⁵ and require projects to strive for universal student participation in the four components.

⁵ More information about Unlocking Career Success can be found at https://cte.ed.gov/unlocking-career-success/home.

Discussion: By structuring Priority 1 to allow applicants to implement one or more of four components of career-connected learning, we preserve our flexibility to adjust the number of required components in future grant competitions. For example, in a year in which limited funds are available for a competition, we could use this flexibility to support grantees in pursuing targeted approaches. At the same time, using the “one or more” language allows us to include the priority in a competition as an absolute priority that requires applicants to include all four components. Program Requirement 5 requires grantees to have a project plan that includes benchmarks for implementing one or more of the four keys to career-connected learning by no later than the end of the fifth year of the project. As with Priority 1, Program Requirement 5 is constructed to give the Department flexibility to specify the number of keys to career-connected learning that must be implemented by the end of the project period. We also support the commenter's suggestion to further align Priority 1 and the Raise the Bar: Unlocking Career Success initiative where possible, and, based on our own review, changed the language in the priority from “pillars” to “keys.”

Changes: We have changed the reference to the four components in Priority 1 from “pillars” to “keys.”

Comments: Several commenters expressed concern that Priority 1 was not adequately focused on promoting equitable student participation in career-connected learning. One commenter recommended that Priority 1 be reoriented to emphasize improving the access and success of students who are members of “special populations” ⁶ in Perkins V. Another commenter recommended that Priority 1 focus on promoting equity in student access and outcomes for students of color, students from low-income backgrounds, and females, including by expanding access to higher-wage CTE pathways, such as those that prepare students for Science, Technology, Engineering, and Mathematics (STEM) careers, for students from groups that have been historically underrepresented in such programs.

⁶ Section 3(48) of Perkins V defines “special populations” to mean individuals with disabilities; individuals from economically disadvantaged families, including low-income youth and adults; individuals preparing for nontraditional fields, which are occupations or fields of work for which individuals from one gender comprise less than 25 percent of the individuals employed in each such occupation or field of work; single parents, including single pregnant women; out-of-workforce individuals; English learners; homeless individuals described in section 725 of the McKinney-Vento Homeless Assistance Act (42 U.S.C. 11434a); youth who are in, or have aged out of, the foster care system; and youth with a parent who is a member of the armed forces (as such term is defined in section 101(a)(4) of title 10, United States Code); and is on active duty (as such term is defined in section 101(d)(1) of such title).

Discussion: The Department appreciates the concerns of the commenters and agrees that inequities in student access and success should remain an important focus of this program. To that end, we note that Priority 4 requires projects to demonstrate that at least 51 percent of the students they will serve will be from low-income families. Moreover, there are other tools available to the Department to make advancing equity a focus of future PIM grant competitions, such as, for example: (a) the equitable access priorities from the Secretary's Supplemental Priorities and Definitions for Discretionary Grants Programs published in the Federal Register on December 10, 2021 (86 FR 70612) (Supplemental Priorities); (b) selection criteria from the Education Department General Administrative Regulations (EDGAR) at 34 CFR 75.210(a) that assess the need for a proposed project; and (c) the EDGAR selection criterion at 34 CFR 75.210(d)(2) that evaluates the quality and sufficiency of a proposed project's strategies for ensuring equal access and treatment for eligible participants who are members of groups that have traditionally been underrepresented based on race, color, national origin, gender, age, or disability.

Changes: None.

Comment: One commenter urged the Department to revise Priority 1 to highlight and encourage applicants to develop and expand access to CTE programs in the construction, transportation, electrification, and manufacturing sectors, which the commenter describes as “skilled trades.” The commenter also recommended adding a definition of “skilled trades education” to make clear that programs that prepare individuals for occupations in these sectors are CTE.

Discussion: We agree with the commenter that addressing the workforce needs of the construction, transportation, electrification, and manufacturing sectors is critically important. Historic investments made through the American Rescue Plan, Bipartisan Infrastructure Law, CHIPS and Science Act, and Inflation Reduction Act, as well as associated private sector investments, will create millions of good-paying jobs rebuilding our infrastructure, supply chains, and manufacturing.⁷ We will encourage applicants to consider these new opportunities as they develop college and career pathways under this program. We decline, however, to create a special focus on these sectors (or any others) in Priority 1, in favor of giving applicants the flexibility to design projects that are responsive to the most compelling workforce needs in their communities. Section 114(e)(3)(E) of Perkins V requires each applicant to describe how the programs they will implement reflect the needs of regional, State, or local employers, as demonstrated by the biennial comprehensive needs assessment that Perkins V subrecipients must complete under section 134(c) of that Act. In many communities, these will be jobs in the construction, transportation, electrification, and manufacturing sectors. We also decline to add a definition of “skilled trades education” because we do not consider it necessary to use rulemaking authority to clarify that the programs this term describes are allowable uses of funds under PIM. These programs have long been an important part of CTE, and we affirm that they are eligible uses of PIM funds.

⁷ The White House (2023), Biden-Harris Administration Roadmap to Support Good Jobs (Fact Sheet), May 16, 2023. Retrieved from: https://www.whitehouse.gov/briefing-room/statements-releases/2023/05/16/biden-harris-administration-roadmap-to-support-good-jobs.

Changes: None.

Comment: One commenter recommended that we require applicants to describe how they will use evidence-based practices, including universal design for learning,⁸ in carrying out the activities described in Priority 1 to ensure that teachers, school leaders, and industry partners are adequately trained to implement these activities.

⁸ Section 3(54) of Perkins V defines “universal design for learning” by cross-referencing the definition of this term in section 8101 of the Elementary and Secondary Education Act of 1965, as amended by Every Student Succeeds Act (ESEA). Section 8101 of ESEA cross-references the definition in section 103 of the Higher Education Act of 1965, which defines the term as “a scientifically valid framework for guiding educational practice that—(A) provides flexibility in the ways information is presented, in the ways students respond or demonstrate knowledge and skills, and in the ways students are engaged; and (B) reduces barriers in instruction, provides appropriate accommodations, supports, and challenges, and maintains high achievement expectations for all students, including students with disabilities and students who are limited English proficient.”

Discussion: We appreciate the commenter's recommendation, but we decline to modify Priority 1 to require the description sought by the commenter because we consider it unnecessary. Because several of the selection criteria assess the likely effectiveness of applicants' proposed strategies to increase student participation and success in career-connected learning, we anticipate that successful applicants will describe in their applications evidence-based practices, such as universal design for learning, and how they will prepare teachers, school leaders, and industry partners to implement them.

Changes: None.

Comments: Two commenters suggested modifications to Priority 1's reference to postsecondary credits earned through dual or concurrent enrollment programs. One commenter recommended that the priority specify that earning 12 postsecondary credits is the goal because there is evidence that the benefits of dual enrollment increase with every postsecondary credit earned, at least up to 12 credits. A second commenter urged the Department to amend the priority to specify that dual or concurrent enrollment courses must be part of a guided pathway that begins in 11th grade, and is aligned with postsecondary pathways and postsecondary programs of study, so that students' participation in dual or concurrent enrollment courses helps them progress toward identified postsecondary degrees or credentials, saving students and their families time and money toward attaining a postsecondary credential.

Discussion: We agree that promoting attainment of at least 12 postsecondary credits through participation in dual or concurrent enrollment programs should be a goal of career-connected high schools because research suggests that the benefits of dual enrollment increase with every postsecondary credit earned, at least up to 12 credits.⁹ However, we decline to modify Priority 1 to specify that projects must make this the goal for all students, to preserve flexibility for applicants to design projects that are responsive to the needs of their students and local circumstances and resources. Instead, we are establishing an application requirement that directs applicants to describe how they will seek to increase not only the number of students who earn any postsecondary credits through dual or concurrent enrollment programs but also how they will seek to increase the average number of postsecondary credits earned by students to 12 or more. To measure the progress of grantees in pursuing those goals, we also are establishing an additional reporting requirement that will collect data on the average number of postsecondary credits earned by students.

⁹ Taylor, J.L., Allen, T.O., An, B.P., Denecker, C., Edmunds, J.A., Fink, J., Giani, M.S., Hodara, M., Hu, X., Tobolowsky, B.F., & Chen,W. (2022), Research priorities for advancing equitable dual enrollment policy and practice. Salt Lake City, UT: University of Utah. Retrieved from: https://cherp.utah.edu/_resources/documents/publications/research_priorities_for_advancing_equitable_dual_enrollment_policy_and_practice.pdf.

We agree that participation in dual or concurrent programs should be part of a defined program of study so that students may advance toward their college and career goals and accelerate their attainment of a postsecondary credential. As the commenter suggests, where institutions of higher education (IHEs) are restructuring their programs around broad career pathways, which are sometimes described as “guided pathways,” ¹⁰ dual or concurrent programs should be integrated into these efforts so that students and their families have clear program maps showing how each postsecondary course adds up to a postsecondary credential.¹¹ We decline the commenter's recommendation to specify that these programs must commence in 11th grade, however, to give grantees flexibility in designing these programs of study.

¹⁰ Jenkins, D., Lahr, H., Fink, J., and Ganga, E. (2018), What We Are Learning About Guided Pathways: Part 1: A Reform Moves from Theory to Practice, Community College Research Center, Teachers College, Columbia University. Retrieved from: https://ccrc.tc.columbia.edu/media/k2/attachments/guided-pathways-part-1-theory-practice.pdf.

¹¹ Mehl, G., Wynder, J., Barnett, E., Fink, J., Jenkins, D. (2020), The Dual Enrollment Playbook: A Guide to Equitable Acceleration for Students, Community College Research Center and the Aspen Institute College Excellence Program. Retrieved from: https://ccrc.tc.columbia.edu/media/k2/attachments/dual-enrollment-playbook-equitable-acceleration.pdf.

Changes: We added a fifth application requirement that applicants include in their applications a description of how they will seek to increase the proportion of students who earn any postsecondary credits from participation in dual or concurrent enrollment programs, and how, over the 60-month project period, they also will seek to increase the average number of postsecondary credits earned by students to 12 or more. We also revised the program evaluation requirements to require grantees to report annually on the average number of postsecondary credits earned by students through participation in dual or concurrent enrollment programs and the extent to which students attain any postsecondary credits and at least 12 postsecondary credits in a program of study that culminates with an associate, bachelor's, or advanced degree, or completion of a Registered Apprenticeship Program.

We modified the dual or concurrent enrollment component of Priority 1 to specify that these postsecondary credits must be part of a program of study that culminates with an associate, bachelor's, or advanced degree, or completion of a Registered Apprenticeship Program. In addition, we made several conforming changes to Priority 1 to reflect the new program of study requirement. Because programs of study will integrate both secondary and postsecondary content, we modified Priority 1 to indicate that the 5-year plan it requires must not only provide for the alignment of secondary and postsecondary education but also the integration of the two. We also modified Application Requirement 3, which relates to the 5-year plan, to conform with the change to the 5-year plan in Priority 1. Because programs of study may begin earlier than the last two years of high school, we also deleted the reference in Priority 1 to the last two years of high school and now specify that the plan address alignment and integration of high school generally with the first two years of postsecondary education.

Comments: One commenter asked the Department to clarify whether Priority 1's goal of substantially increasing the proportion of students who graduate from high school with postsecondary credits earned from dual or concurrent enrollment programs could be satisfied through student participation in Advanced Placement (AP) courses, expressing the view that students who score highly on AP examinations also receive postsecondary credit. A second commenter supported excluding participation in AP courses from the priority because, the commenter maintained, students rarely receive postsecondary credit even if they receive a high score on the associated examinations.

Discussion: AP courses can be a valuable part of a well-rounded education and may be included in programs of study developed and implemented with grant funds under this program. However, Priority 1 specifically promotes participation in dual or concurrent programs as one of the four keys to college and career success, because such programs enable students to earn postsecondary credits immediately upon completion of each course, and these credits may usually be transferred to other colleges and universities after the student completes high school.¹² Accumulating postsecondary credit through AP courses is less certain. Students must first achieve a designated score, typically 3 or higher on a single examination; ¹³ in 2022, the percentage of AP test-takers who failed to score 3 or higher ranged from 11.7 percent in Art and Design: Drawing to 56.7 percent in Physics 1.¹⁴ Students then must petition the IHE in which they enroll to seek the postsecondary credit. One study found that most colleges and universities imposed restrictions on the award of credit for AP test scores, such as requiring a score higher than 3, restricting the subject areas in which credit could be awarded, limiting the awarded credit to elective coursework, or limiting the total amount of credit a student could receive.¹⁵ In addition, dual or concurrent programs are typically available for a wider range of disciplines than the 38 subject areas in which there are AP examinations, such as health science, engineering technology, and other postsecondary CTE programs. Dual or concurrent programs also require LEAs and schools to establish close partnerships with the IHEs offering the postsecondary programming, which can benefit students in other ways, such as by improving the alignment of curriculum and the readiness of high school graduates to enter postsecondary education without need for remediation. Further, there is compelling evidence that participation in dual or concurrent programs not only has positive effects on postsecondary outcomes like postsecondary enrollment and degree attainment, but also high school outcomes such as graduation and general academic achievement.¹⁶

¹² College in High School Alliance (n.d.), The Benefits of College in High School Programs. Retrieved from: https://collegeinhighschool.org/wp-content/uploads/2022/10/TheBenefitsofCollegeinHighSchoolPrograms-1.pdf.

¹³ College Board (2022), New to AP? Here's Where to Start. Retrieved from: https://apcentral.collegeboard.org/about-ap/district-leaders.

¹⁴ College Board (2022), Student Scores Distribution: AP Exams May 2022. Retrieved from: https://apstudents.collegeboard.org/about-ap-scores/score-distributions.

¹⁵ Weinstein, P., Jr. (2016), Diminishing Credit: How Colleges and Universities Restrict the Use of Advanced Placement, Progressive Policy Institute. Retrieved from: https://www.progressivepolicy.org/wp-content/uploads/2016/09/MEMO-Weinstein-AP.pdf.

¹⁶ Institute of Education Sciences, U.S. Department of Education (2017), What Works Clearinghouse Intervention Report: Dual Enrollment Programs. Retrieved from: https://ies.ed.gov/ncee/wwc/Docs/InterventionReports/wwc_dual_enrollment_022817.pdf.

Changes: None.

Comments: We received a number of comments on the work-based learning component of Priority 1. Several commenters supported the inclusion of the work-based learning opportunity component in Priority 1. One commenter expressed concern that it would be difficult for grantees to increase participation in work-based learning opportunities for immigrant students who lack documentation that enables them to work in the United States. One commenter supported the requirement that wages or academic credit be provided to students for completing work-based learning opportunities, and encouraged the Department to retain this requirement, because compensated work-based learning experiences result in higher levels of satisfaction for students than those that are uncompensated. Another commenter maintained that the definition of work-based learning opportunity used in the NPP, which is from section 3 of Perkins V, did not include a wide range of relevant experiences and should be enhanced to include applied learning activities that are not implemented in the context of work because they also enable students to contextualize and apply the knowledge and skills taught in classrooms. Another commenter recommended that the work-based learning component of Priority 1 give students multiple means to demonstrate what they have learned through work-based learning and that teachers, work-based learning coordinators, and industry partners be trained to assess student performance through multiple means. One commenter highlighted a noteworthy innovation that offers postsecondary credit and work experience simultaneously through work-based dual credit courses that are co-taught by college faculty and employer supervisors, using the workplace as a learning lab, with at least 20 percent of the course taught at the workplace by an employer instructor. The commenter recommended that this innovation be considered a work-based learning opportunity under Perkins V.

Discussion: We appreciate the commenters' support for the work-based learning component of Priority 1. We understand the concerns of the commenter who described the challenges associated with identifying work-based learning opportunities for students who lack documentation that authorizes them to work in the United States. We note that the definition of work-based learning in Perkins V includes both actual work in authentic workplace settings and also simulated work in classroom environments. Simulated work in classroom environments may be useful in helping these students, as well as those in remote, rural communities develop professional skills. The State of West Virginia, for example, has received considerable attention for the innovative Simulated Workplace program that it has implemented statewide.¹⁷

¹⁷ D'Antoni, K. (2019), Simulated Workplaces in West Virginia, State Education Standard, volume 19 number 3 (September 2019), National Association of State Boards of Education. Retrieved from: https://eric.ed.gov/?id=EJ1229651.

We appreciate the support of the commenter for the requirement in Priority 1 that students earn academic credit or wages for their participation in work-based learning opportunities.

The Department agrees with the commenter who expressed the view that applied learning activities can be valuable even when they are not implemented in the context of work. While the definition of work-based learning opportunity in Perkins V does not include such applied learning opportunities, the statutory definition of CTE includes applied learning activities and does not require that they be implemented in the context of work. Consequently, projects may carry out the activities the commenter recommends notwithstanding the exclusion of applied learning from the definition of work-based learning in Perkins V.

We agree with the commenter who stressed the importance of training teachers, work-based learning coordinators, and industry partners in assessing student participation in work-based learning opportunities, but we decline to impose this as a Priority 1 requirement to preserve applicants' flexibility to accommodate local circumstances and contexts. The Department may include assessing work-based learning in the technical assistance we intend to provide PIM grantees, however. Similarly, with respect to work-based dual credit courses, we affirm that such courses are consistent with the definition of work-based learning opportunity in Perkins V, but do not believe it is necessary to specify this in Priority 1.

Changes: None.

Comments: A few commenters recommended revisions to Priority 1 relating to the personalized postsecondary and career plans that are developed and updated annually through a system of career guidance and academic counseling and postsecondary education navigation supports. One commenter urged the Department to specify that the personalized postsecondary education and career plan must provide multiple entry points, be accessible to all students, including students with and without disabilities, be co-designed with students, and include ways for students to interact with role models or mentors from similar backgrounds and with similar life experiences. These amendments, the commenter contends, would strengthen this component of Priority 1 by grounding it in research and best practices. Another commenter urged the Department to expand this component of the priority to include comprehensive wraparound supports to promote the successful participation of all students, including tutoring, mentoring, foundational coursework, and payment of any required participation costs. Another commenter stated that Priority 1 would be more effective if it specified that a project must include professional development to train student advisers in delivering career coaching that is culturally competent and informed by accurate and current labor market information. Further, this commenter continued, Priority 1 should require that students participate in a carefully sequenced set of career development activities, such as completing career interest inventories and participating in mock interviews. Another commenter urged the Department to clarify that youth-serving organizations may be sources of career exploration and support for education and career planning assistance, noting an example of a youth-serving organization that provides counseling and career planning to students participating in internships in out-of-school time hours.

Discussion: We appreciate the commenters' support for personalized postsecondary and career plans. With respect to the recommendation that these plans provide multiple entry points and be co-designed with students, we note that Priority 1 already specifies that the plans must be updated annually, and the definition of personalized postsecondary and career plans already requires that these plans be developed with students and, to the greatest extent practicable, the student's family or guardian. All of the activities funded by PIM must meet or be consistent with the requirements of the Individuals with Disabilities Education Act and section 504 of the Rehabilitation Act. For this reason, while we appreciate the commenter's recommendation that we modify the priority to indicate that the plans be accessible to students with disabilities, we believe this is already required. We agree that providing students with mentors is a commendable practice, but we decline to require this in Priority 1 or the definition of personalized postsecondary and career plans, to give applicants flexibility to design a system of career guidance and academic counseling and postsecondary education navigation supports that reflects local needs, assets, and resource limitations. We agree with the commenter who emphasized the importance of providing students with comprehensive wraparound support services, and so we have modified the definition of personalized postsecondary and career plan to indicate that the plan must identify any wraparound supports a student will need to carry out the activities and pursue the goals described in the plan. We also agree with the commenter who recommended that we require students to receive culturally responsive career coaching and advising that is informed by the labor market and delivered by trained personnel, and we have modified Priority 1 accordingly. We decline to amend the definition of personalized postsecondary and career plan to require a specific sequence of career development activities, to preserve applicant flexibility. We affirm that youth-serving organizations can be useful partners in supporting the career exploration and identification of postsecondary education and career goals. We plan to support this work in our technical assistance to applicants and grantees.

Changes: We modified Priority 1 to indicate that the system of career guidance and academic counseling (as defined in section 3(7) of Perkins V) and postsecondary education navigation must include college and career coaching by trained advisors that is culturally responsive and informed by accurate and current labor market information. We modified the definition of personalized postsecondary and career plan to specify that it must identify any comprehensive wraparound support services that a student may need to carry out the activities and pursue the goals described in the plan.

Priority 2—Partnership Applications.

Comments: Several parties expressed support for the focus in Priority 2 on applications that include as partners at least one business or industry representative, a local educational agency (LEA) or other entity eligible to receive assistance under section 131 of Perkins V, and an IHE eligible to receive assistance under section 132 of Perkins V. Three commenters recommended that the Department add other categories of required partners to the priority. One commenter urged the Department to require the inclusion of an entity that would coordinate work-based learning opportunities for the project, contending that such entities were necessary to ensure the work-based learning opportunities were high-quality and successful. Similarly, another commenter recommended including an intermediary organization to facilitate and maintain relationships among schools and LEAs, IHEs, and employers to ensure the quality, consistency, and scale of work-based learning opportunities, better leverage resources, improve data collection, and make the partnership sustainable in the long-term. The same commenter also urged the Department to require the inclusion of local workforce development boards as partners, to leverage resources available under Title I of the Workforce Innovation and Opportunity Act (WIOA) and help educators and students access and interpret labor market information. A third commenter recommended adding as a required partner a local teachers union, school staff union or organization, or a representative organization of teachers, so that teachers understand the work for which students are being prepared and the skills they will need to be successful. Another commenter recommended adding afterschool and summer learning programs to the list of optional partners.

Discussion: We appreciate the commenters' thoughtful support for the partnership priority. We agree that qualified intermediaries (as defined by section 3 of Perkins V) can be helpful partners in coordinating work-based learning opportunities and in facilitating relationships among the partners, and we strongly recommend that prospective applicants consider including a qualified intermediary in partnerships they develop to meet Priority 2 or 3. We decline to require the inclusion of a qualified intermediary in the partnership out of concern that appropriate intermediaries may not be available in every community, but we modified Priority 2 to indicate that qualified intermediaries may be optional partners. We decline to mandate the inclusion of workforce development boards, local unions, or other representatives of teachers and faculty in each partnership, to preserve applicant flexibility to accommodate local circumstances, but we agree that these entities can make useful contributions to a project and should be identified as optional partners. We also agree that afterschool and summer learning programs should be identified as optional partners, because they can make valuable contributions to expanding student access to the keys to career-connected learning.

Changes: We modified Priority 2 to identify as optional partners qualified intermediaries, local teachers unions or school staff unions or other representatives of teachers and faculty, and afterschool and summer learning programs. For consistency, we also made these changes to Priority 3.

Comments: Two commenters recommended that we modify the specifications for some required partner categories. One commenter urged the Department to require including at least two employers in sectors aligned with regional labor market needs, rather than a single business and industry representative, and to specify that these employers must make explicit commitments to participate actively in the project's leadership, assist the grantee in designing career pathways that will prepare students for in-demand skills and include certifications with labor market value, help develop a continuum of work-based learning opportunities, and offer students a wide range of such work-based learning opportunities. Another commenter recommended that the Department clarify that the role of the higher education partner must be carried out by a public or private nonprofit IHE, contending that students educated in CTE programs offered by for-profit institutions of higher education have lower earnings and employment rates and are more likely to default on student loans.

Discussion: We agree that partnerships that include more than one employer likely will be more effective than partnerships with only one employer because, for example, they likely will be able to provide more work-based learning opportunities for students, and we have modified Priority 2 accordingly. While we agree that employers should have significant and meaningful roles in project leadership and implementation, we choose not to elaborate on the nature and extent of the employer's role in Priority 2. Instead, one of the selection criteria included in the NPP and retained in this notice assesses the extent to which employers in the labor market served by the proposed project will be involved in making decisions with respect to the project's implementation and in carrying out its activities. The Department also intends to provide technical assistance to grantees on expanding the number of employer partners and giving these employers meaningful decision-making roles.

We agree with the commenter who recommended that the higher education partner be a public or private non-profit IHE, but decline to amend Priority 2 because it already contains this limitation. Priority 2 requires the IHE partner to be a community or technical college or other IHE eligible to receive assistance under section 132 of Perkins V. Private for-profit institutions of higher education are ineligible for funding under section 132 of Perkins V.

Changes: We have modified Priority 2 to require the partnership to include two or more employers. For consistency, we also made this change to Priority 3.

Comments: One commenter urged the Department to limit the participation of non-profit organizations as optional partners to those with expertise in delivering CTE, contending that projects would have greater impact if non-profit organizations had specialized knowledge about CTE.

Discussion: While we believe that nonprofit organizations, especially those that have experience in CTE delivery, can play a variety of valuable roles in a project's partnership we decline to require all non-profit partners to have this expertise because such expertise is not necessary for a non-profit partner to make meaningful contributions to a project. For example, a non-profit civic organization without expertise in CTE could provide mentors to help students with college and career planning and a non-profit business association without expertise in CTE could recruit local businesses to provide work-based learning opportunities for students.

Changes: None.

Comment: One commenter suggested that the Department require applicants to provide training in the use of evidence-based practices, including universal design for learning, to CTE teachers, school leaders, and industry partners. The commenter believes that this training is necessary and appropriate because CTE teachers often enter the classroom from industry and do not receive the pedagogical training that other teachers receive. The same commenter also recommended that the Department amend the priority to indicate that partnerships may support the design or expansion of research-to-practice partnerships aimed at improving CTE instruction. It urged the Department to provide funding for a national resource center that would provide support to the partnerships, States, and LEAs to improve CTE instruction, address the need for more diversity among the CTE teacher workforce, especially in areas such as manufacturing and biotechnology where there is a shortage of CTE instructors, and promote the use of universal design for learning.

Discussion: As with a similar recommendation made with respect to Priority 1, we decline to modify Priority 2 to require all partnerships to provide training on the use of evidence-based practices, including universal design for learning, to CTE teachers, school leaders, and industry partners. Because several of the selection criteria assess the likely effectiveness of the strategies that applicants propose to implement to increase student participation and success in career-connected learning, we anticipate that successful applicants will describe in their applications evidence-based practices, such as universal design for learning, and how they will prepare teachers, school leaders, and industry partners to implement them.

We agree with the commenter that it is worthwhile for projects to be designed in ways that support collaboration between practitioners and researchers in both conducting research and applying the results to improve practice and student outcomes. We do not believe modifying Priority 2 is necessary to authorize projects to support the kinds of research-to-practice partnerships described by the commenter. Section 114(e)(8) of Perkins V requires each project to independently evaluate the activities carried out using grant funds and to produce an annual report to the Department. Applicants may choose to organize their relationships with the independent evaluators as research-to-practice partnerships.

We appreciate the commenter's recommendation that the Department provide funding for a national resource center that would provide support to the partnerships, States, and LEAs to improve CTE instruction, but such a center is outside the scope of this NFP. We do expect to provide extensive technical assistance to the projects we fund.

Changes: None.

Priority 3—State and Regional Partnerships.

Comments: As recommended for Priority 2, one commenter recommended amending Priority 3 to add as a required partner a local teachers union, school staff union or organization, or a representative organization of teachers, because the commenter believes that it is important for teachers to understand the work for which students are being prepared and the skills they will need to be successful. Similarly, a commenter who recommended making an intermediary organization a required partner under Priority 2 made this same recommendation with respect to Priority 3.

Another commenter urged the Department to permit the State agency partner role in Priority 3 to be filled by agencies other than State educational agencies (SEAs) because some other agencies could make useful contributions to a project. The commenter notes, for example, that some State longitudinal data systems are housed by State agencies that are not SEAs. The commenter also noted that statewide college and career pathway exploration tools in some States are not managed by SEAs or State agencies; in one State, California, they are administered by an LEA and a non-profit organization. For these reasons, the commenter recommended that the Department permit the State agency role to be filled by any entity housing the State longitudinal data system or an entity that provides college and career planning tools to a State or region. Another commenter also highlighted the importance of partnering with the State agency responsible for the State longitudinal data system but recommended that this be the sole State agency eligible to participate in the partnership because, in the commenter's view, this would be the most meaningful way for a State agency to help implement career-connected learning at the regional level. Another party recommended adding as optional partners in Priority 3 statewide youth-serving organizations, such as statewide afterschool networks, because these organizations represent entities that may provide work-based learning opportunities to young people or make other contributions to their career development.

Discussion: We agree that qualified intermediaries and local teachers unions, school staff unions, or other representatives of teachers and faculty can be valuable partners, but we decline to make them required partners in Priority 3, to preserve flexibility for applicants to assemble partnerships that accommodate local circumstances. We agree that State agencies other than the SEA can make important contributions to a partnership and, for that reason, the NPP permitted the State role to be performed by any State agency. We do not agree with the commenter who suggested that the State partner role be limited to the State agency responsible for the statewide longitudinal data system, because we think a variety of State agencies could be helpful to a project. While we understand that regional entities might also provide helpful support to partnerships, we believe Priority 3(a) should focus on State agencies because they have greater resources that can be leveraged by partnerships. However, regional entities like those described by the commenter may be included in the regional partnerships described in Priority 3(b). For the reasons suggested by the commenter, we agree that statewide youth-serving organizations, such as statewide afterschool networks, should be identified as optional partners in Priority 3.

Changes: We modified Priority 3 to identify as optional partners qualified intermediaries, local teachers unions or school staff unions or other representatives of teachers and faculty, and statewide youth-serving organizations, such as statewide afterschool networks.

Priority 4—Serving Students from Families with Low Incomes.

Comments: The Department received numerous comments that support Priority 4, which requires that projects submit a plan and evidence that at least 51 percent of the students to be served by the project will be from low-income families, consistent with the statutory mandate that the Department give priority to projects that will predominantly serve students from families with low incomes. One commenter recommended that applicants specifically address the targeted recruitment, retention, and completion supports they will undertake with respect to students from low-income families as part of the plan they must submit to meet the requirements of Priority 4. Another commenter expressed concern about using eligibility for Pell Grants as a means to establish that postsecondary students who would be served by the project are from low-income families, because many low-income students in States with need-based student financial aid programs are not eligible for Pell Grants where their needs are met by State financial aid.

Discussion: We agree with the first commenter's suggestion concerning the importance of asking applicants to describe their strategies for recruiting and retaining students from low-income backgrounds because these strategies will be key to the applicant's success in meeting the 51 percent requirement. We have revised Priority 4 accordingly. We thank the second commenter for the information about State student financial aid programs and agree that receipt of need-based State financial aid should be a factor that applicants may use to establish that a postsecondary student is from a low-income family. We have modified Priority 4 accordingly.

Changes: Priority 4 has been amended to require applicants to describe the recruitment and retention strategies they will employ to meet the goal that 51 percent or more of students be from low-income families. We also added receipt of need-based State student financial aid as a factor that applicants may use in identifying postsecondary students who are from low-income families.

Priority 5—Rural Communities.

Comments: Several commenters voiced support for Priority 5, which gives priority to an applicant that demonstrates its proposed project will serve students residing in identified rural communities. One party opposed the priority, contending that it was unfair to schools outside rural areas with large enrollments of students from low-income backgrounds and that the Department should not give preference to applicants in particular geographic areas. One commenter that supported the priority recommended that we require an applicant to demonstrate that the project will provide training to CTE teachers, school leaders, and industry leaders in the use of evidence-based practices, including universal design for learning.

Discussion: The Department appreciates the support for the priority, which is intended to facilitate the Department's implementation of a statutory requirement. Section 114(e)(5) of Perkins V directs the Department to award no less than 25 percent of PIM grant funds to projects proposing to fund CTE activities that serve rural communities. Because the priority for projects in rural communities is statutory, the Department cannot omit Priority 5 from the NFP.

We appreciate the recommendation to require applicants to demonstrate that the project will provide training in evidence-based practices, including universal design for learning, but we decline to modify Priority 5 to require this. As we note elsewhere in the NFP, we expect that successful applicants will describe how they will use evidence-based practices, because several of the selection criteria assess the likely effectiveness of their plans to expand student participation in the four keys to career-connected learning.

Changes: None.

Additional Priorities.

Comments: Five commenters encouraged the Department to establish additional priorities. One commenter recommended priorities focused on English learners and individuals with disabilities that would be comparable to Priority 4, because these students, like students from low-income backgrounds, do not have equitable access to dual or concurrent enrollment programs and other components of Priority 1. As an alternative to Priority 1, one party expressed support for a priority for innovative solutions to challenges faced by rural and low-income communities. One commenter recommended two additional priorities, one focused on building employability skills among students because, in the commenter's view, many jobseekers lack such skills, and a second centered on promoting creative literacy projects for middle school students because the commenter believes that cultivating creativity in earlier grades can provide a strong foundation for student success in high school and after graduation. Another commenter recommended that the Department establish an additional priority for projects that will employ innovative approaches to advancing personalized learning, such as changing school schedules or calendars to increase opportunities for career-connected learning and implementing a performance-based accountability system that uses portfolios and capstone projects to assess student mastery of core content. In the commenter's view, rethinking the structure of high school is necessary for college and career pathways to achieve their full potential to improve student academic and career outcomes. A fifth commenter urged the Department to create an additional priority that would give preference to applications from States that have taken or intend to take advantage of the opportunity WIOA offers to submit a Combined State Plan that includes the Perkins V State formula grant program, as well as the core education and workforce development programs authorized by WIOA.¹⁸ The commenter views this opportunity as a means of creating a comprehensive and integrated approach to education and workforce development programs.

¹⁸ The six core WIOA programs are the Adult, Dislocated Worker, and Youth programs (Title I of WIOA), the Adult Education and Family Literacy Act (Title II of WIOA), the Employment Service program (amended by Title III of WIOA), and the Vocational Rehabilitation State Grant Program (amended by Title IV of WIOA). 29 U.S.C. 3101 et seq.

Discussion: We choose not to use rulemaking to establish separate priorities focused on English learners and individuals with disabilities that would be comparable to Priority 4 because the Department has the discretion in the application process to focus applicants on improving access to the four keys by these two groups of students by using the equitable access priorities from the Supplemental Priorities. We agree with the commenter about the importance of strengthening the employability skills of young people, but we decline to establish a separate priority for projects with this focus because we consider it unnecessary. Priority 1 promotes the increased participation of students in work-based learning opportunities that will help students acquire the employability skills that the commenter stresses are critical to success in the labor market. We do not agree with the commenter who recommended establishing a priority for projects that provide instruction in creative literacy for middle school students because it would result in projects that would be narrowly focused on a single strategy. We believe that projects that incorporate multiple strategies, such as those that would meet Priority 1, are a more appropriate use of limited PIM funds. With respect to the commenter who suggested replacing Priority 1 with a priority for innovative solutions to challenges faced by rural and low-income communities, as noted elsewhere in the NFP, we believe that Priority 1 is innovative and will result in a more productive use of limited PIM grant funds than giving applicants the discretion to decide how they wish to use these resources. We support the goals of the commenter who recommended that the Department establish an additional priority for projects that will employ innovative approaches to advancing personalized learning, such as changing school schedules or calendars, and agree that traditional high school structures may pose barriers to expanding career-connected learning. For that reason, we anticipate that successful applicants will employ innovative approaches to personalized learning in their projects, making the establishment of a separate priority unnecessary. We also decline to establish an additional priority for projects submitted by applicants in States that include the Perkins V State formula grant program in a Combined State Plan under WIOA because this decision is made by States and is outside the control of eligible applicants.

Changes: None.

Program Requirements.

Program Requirement 1—Matching Contributions.

Comment: One commenter recommended permitting applicants to meet the statutory matching requirement with Federal funds, noting that this is permissible in the Education Innovation and Research program, which is similar to PIM. The commenter stated that permitting the match to be provided from other Federal program funds could promote greater alignment of Federal investments in education.

Discussion: We appreciate the commenter's recommendation and understand how this could be a useful tool to strengthen the alignment of Federal education and workforce funding to support career-connected learning in communities. However, we are unable to make this change because section 114(e)(2)(A) of Perkins V specifies that the match must be provided from non-Federal sources.

Changes: None.

Program Requirement 2—Programs of Study.

Comments: One commenter supported Program Requirement 2, which would require alignment of the secondary portion of programs of study offered by each project with the entrance requirements and college credit criteria for public IHEs in the State, and mandate that the postsecondary portion of these programs of study culminate in certain degrees or lead seamlessly to and through a Registered Apprenticeship program. The commenter supported alignment of the secondary portion of programs of study with standards and criteria for accessing college-credit courses because student placement in developmental or remedial coursework is a barrier to timely completion of postsecondary credentials. The commenter also expressed the view that industry-recognized credentials should not be the terminal credential in a program of study because the earnings associated with these credentials vary greatly.

One party expressed opposition to Program Requirement 2, stating that the requirements for programs of study were not innovative because programs of study were included in Perkins V and the predecessor to Perkins V (the Carl D. Perkins Career and Technical Education Act of 2006) and were based on Tech Prep programs that had been authorized during the 1990s.

Discussion: We appreciate the first commenter's support for Program Requirement 2. While the second commenter is correct that Perkins V and its predecessor statute required subrecipients to offer at least one program of study (as defined by section 3 of Perkins V), Program Requirement 2 is important because a 2016-2017 survey of LEAs by the National Center for Education Statistics found that only about a third of LEAs reported that all of their CTE programs were structured as pathways aligned with related postsecondary programs.¹⁹ In the Tech Prep program referenced by the commenter, only about 10 percent of consortia that received Tech Prep funds offered structured, comprehensive programs of study.²⁰

¹⁹ Gray, L., and Lewis, L. (2018), Career and Technical Education Programs in Public School Districts: 2016-17: First Look (NCES 2018-028), U.S. Department of Education, National Center for Education Statistics. Retrieved from: https://nces.ed.gov/pubsearch/pubsinfo.asp?pubid=2018028.

²⁰ Hershey, A.M., Silverberg, M.K., et al. (1998), Focus for the Future: The Final Report of the National Tech-Prep Evaluation, Mathematica Policy Research. Retrieved from: https://eric.ed.gov/?id=ED423395.

Changes: None.

Comments: None.

Discussion: After further review, we made a clarifying edit to Program Requirement 2 to make it consistent with the statutory definition of dual or concurrent enrollment program in Perkins V, by indicating that dual or concurrent enrollment courses must confer postsecondary credit.

Changes: We modified Program Requirement 2 to indicate that dual or concurrent enrollment courses must confer postsecondary credit, consistent with the statutory definition of dual or concurrent enrollment programs.

Program Requirement 3—Independent Evaluation.

Comment: One commenter stated that the common performance indicators described in Program Requirement 3 on the extent of student participation in career-connected learning did not require grantees to provide information on participation in and completion of career-connected learning activities by students from low-income backgrounds, students of color, students with disabilities, English learners, and other underserved students. The commenter urged the Department to require grantees to provide these data. Additionally, the commenter recommended that the Department collect data on the extent to which student participation in career-connected learning activities and the college and career pathways supported by the project reflected the demographic characteristics of the overall student population, maintaining that this information is important to assessing the success of each project.

Discussion: We agree with the commenter on the importance of collecting and reporting data on student participation in the four keys to career-connected learning and on student outcomes, and we share the commenter's view that meaningful disaggregated data are critical to evaluating the success of each project. We note that Program Requirement 3 already requires the independent evaluation to report annually on common performance indicators, including student completion of career-connected learning activities, such as earning postsecondary credits through participation in dual or concurrent enrollment programs, and Program Requirement 3 requires disaggregation of those data for the subgroups of students described in section 1111I(2)(B) of the ESEA, namely students from major racial and ethnic groups, and students who are members of special populations (as defined by section 3 of Perkins V), which include students with disabilities, students from low-income families, and English learners, among others.

In addition, section 114(e)(8) of Perkins V requires PIM grantees to report annually on student outcomes using the performance indicators established by section 113 of Perkins V for the State formula grant program, disaggregated by the student subgroups described in section 1111(c)(2)(B) of ESEA, special population status, and, as appropriate, each CTE program and program of study.

The commenter's recommendation to collect data on the extent to which student participation in learning activities and career pathways supported by the project reflect the demographic characteristics of the overall student population raises important issues that we think merit revising Program Requirement 3, including by requiring the disaggregation of student participation and outcome data by sex and requiring that the evaluation report annually on the extent to which student participation in each CTE program or program of study reflects the demographics of the school (including major racial and ethnic groups, sex, and special population status). These additional data will give the Department a fuller picture of the performance of each project.

Changes: We have modified Program Requirement 3 to require the independent evaluation to disaggregate by sex the data it will collect and report on student participation in and completion of career-connected learning activities, as well as student outcomes measured by the performance indicators established by section 113 of Perkins V for the State formula grant program. We also have added a new paragraph that requires the independent evaluation to report annually on the extent to which CTE participants (as defined by section 3 of Perkins V) and CTE concentrators (as defined by section 3 of Perkins V) in each CTE program or program of study reflect the demographics of the school (including sex, major racial and ethnic groups, and special population status).

Other Requirements.

Comments: One commenter urged the Department to recommend or require grantees to report information on credentials earned by students using the Credential Transparency Description Language created by Credential Engine, an openly licensed schema devised to describe and provide information about credentials, because doing so would promote transparency and facilitate greater understanding of a credential, how it was earned, the entity that awarded it, and the skills for which it was awarded.

Discussion: We thank the commenter for the suggestion. In its instructions on performance reporting to grantees, the Department expects to recommend that grantees consider using the Credential Transparency Description Language when they report information on credentials, but we decline to establish this as a requirement in the NFP because we believe it is more appropriately addressed through sub-regulatory guidance.

Changes: None.

Comment: One commenter recommended requiring grantees to set aside 10 percent of their grant funds for activities carried out in the middle grades (as defined by section 3 of Perkins V) or to make such activities an allowable use of funds so that students are aware of and ready for college and career pathway opportunities when they enroll in high school.

Discussion: While we agree with the commenter that career development and other activities in the middle grades can be helpful to students in clarifying their college and career goals and helping them to make well-informed choices in high school, we do not agree that 10 percent of grant funds should be reserved for these purposes. The goals for career-connected high schools set out in Priority 1 are ambitious and will likely require grantees to use the preponderance of grant funds to achieve them. We affirm, however, that, consistent with section 215 of Perkins V, middle grade activities may be an allowable use of funds.

Changes: None.

Application Requirement-4—Articulation and Credit Transfer Agreements.

Comments: One commenter expressed support for Application Requirement 4, which would require applicants to include in their applications an assurance that, by no later than the end of the first year of the project, LEAs and participating IHEs execute articulation or credit transfer agreements ensuring that postsecondary credits earned by students in dual or concurrent enrollment programs supported by the project will be accepted for transfer at each participating IHE and count toward the requirements for earning culminating postsecondary credentials for the programs of study offered to students through the project.

One commenter opposed Application Requirement 4, asserting that it was not innovative because programs of study and articulation agreements were included in Perkins V, as well as the predecessor to Perkins V (the Carl D. Perkins Career and Technical Education Act of 2006), and were based on Tech Prep programs that had been authorized during the 1990s.

Discussion: We appreciate the support for Application Requirement 4. With respect to the commenter concerned about the extent to which Application Requirement 4 is innovative, we note that, while articulation agreements have been addressed in Federal CTE legislation for many years, there remains considerable work to do to ensure that that dual and concurrent enrollment programs deliver on their promises and students are able to use the postsecondary credits they earn when they enroll in postsecondary education. A 2022 analysis of dual enrollment and other early postsecondary opportunities in CTE found that most States reported having statewide articulation agreements for some CTE courses but that these agreements were often not required or did not cover all CTE courses that were represented to students as offering postsecondary credits. As a result, postsecondary credits may or may not be available to all students when they enroll in higher education.²¹ Application Requirement 4 is intended to ensure that postsecondary credits will be available to all students.

²¹ Advance CTE and College in High School Alliance (2022), The State of Career Technical Education: Early Postsecondary Opportunities. Retrieved from: https://careertech.org/resource/state-of-cte-epso.

Changes: None.

Definitions.

Definition—Personalized postsecondary educational and career plan.

Comment: One commenter recommended amending the definition of “personalized postsecondary educational and career plan” to specify that its development must include completing informational interviews, job shadowing opportunities, and mock interviews because these activities would be helpful to students in identifying postsecondary educational and career goals.

Discussion: We agree that informational interviews, job shadowing opportunities, and mock interviews can be helpful to students in identifying postsecondary educational and career goals, but we decline to modify the definition of “personalized postsecondary educational and career plan” to mandate their inclusion, to preserve flexibility for applicants to design career guidance and academic counseling programs and work-based learning opportunities that reflect local circumstances, assets, and resource limitations.

Change: None.

Definitions of Additional Terms.

Comments: One commenter recommended that the Department add a definition of “career-connected high school” that specifies that such a school provides all students with each of the four components described in Priority 1, including participation in a comprehensive postsecondary education and career navigation system, opportunities to acquire at least 12 postsecondary credits through dual or concurrent enrollment programs, participation in work-based learning, and attainment of an in-demand and high-value industry-recognized credential. The commenter contended that adding such a definition would underscore the Department's intention to support projects that provide all four components to students.

Discussion: As discussed elsewhere in this notice, Priority 1 was constructed to require applicants to implement one or more of four components of career-connected learning, to give the Department flexibility to determine the number of components to include in each grant competition. We decline to add a definition of career-connected high school to preserve this flexibility.

Change: None.

Selection Criteria.

Selection Criteria—(a) Significance.

Comment: One commenter recommended that selection criterion (a)(2), which evaluates the extent to which a project will serve students who are predominantly from low-income families, be revised to incorporate provisions of Priority 4. Specifically, the commenter urged the Department to specify that, consistent with Priority 4, reviewers must evaluate the extent to which the applicant provides evidence that 51 percent of the students who will be served will be from low-income families.

Discussion: We agree with the commenter that this selection criterion should be fully aligned with Priority 4, as it is our intent to establish this selection criterion so that it would be available to assess the extent to which a project meets Priority 4.

Change: We have modified selection criterion (a)(2) to specify that, consistent with Priority 4, reviewers must evaluate the extent to which the applicant provides evidence that at least 51 percent of the students who will be served will be from low-income families.

Selection Criteria—(b) Quality of Project Design.

Comment: One commenter recommended amending selection criterion (b)(1), which evaluates the extent to which the proposed project is likely to be effective in increasing successful participation in dual or concurrent enrollment programs, to specify that reviewers evaluate the extent to which the proposed project is likely to be effective in increasing the acquisition of at least 12 postsecondary credits. The commenter noted that the NPP stated that the benefits of dual enrollment can increase with every postsecondary credit earned, at least up to 10 to 12 credits.

Discussion: As discussed elsewhere in this notice in our response to a similar comment about Priority 1, we agree that career-connected high schools should encourage the attainment of 12 postsecondary credits, but we decline to mandate this be the goal for all students to preserve the flexibility of applicants to design projects that are responsive to local needs, circumstances, and resources.

Changes: None.

Selection Criteria—Additional Recommendations.

Comment: One commenter recommended that the Department add two selection criteria, one that would assess the extent to which the proposed project will integrate and provide students with each of the components of career-connected learning described in Priority 1, and a second that would assess the likelihood that the proposed project will ensure that postsecondary credits earned by students will be accepted for transfer and count toward the requirements for earning culminating postsecondary credentials for programs of study offered to students through the project at all public institutions of higher education in the state, as demonstrated through statewide articulation or credit transfer agreements. The commenter indicated that the former suggested criterion would incentivize grantees to develop projects that include all four keys to career-connected learning and assess the extent to which a project would provide students with a transformative experience that could only be accomplished by implementing the four keys all together. The commenter stated that the latter recommended criterion would be beneficial because it would maximize the utility and portability of the postsecondary credits earned by students through the project, enabling them to be used not only at a local IHE, but at any public IHE in the State.

Discussion: The Department appreciates the suggestions. We decline to add a selection criterion that assesses the extent to which an applicant will implement all four keys, because the Department does not anticipate giving applicants the discretion to choose the number of keys they will implement by the end of the fifth year of the project, and the Department also seeks to maintain its discretion to determine whether to make Priority 1 an absolute or competitive preference priority.

We agree with the commenter that statewide articulation agreements or other means of assuring that postsecondary credits earned through dual or concurrent enrollment programs are portable and will be accepted by all public IHEs in a State are optimal and in the best interests of students. As a practical matter, however, we are concerned that it will be difficult for grantees to secure articulation or credit transfer agreements with every public IHE in the State during the first year of the project. This will not be an issue for applicants in those States that have established effective and comprehensive statewide articulation agreements, but we do not wish to put applicants in other States at a competitive disadvantage because State actions are outside their control. Consequently, we decline to add the second recommended selection criterion.

We agree, however, that postsecondary credits that are accepted by multiple IHEs in a state are more valuable to students than credits accepted only by one institution. Consequently, we are revising Application Requirement 4 to make clear that the articulation or credit transfer agreements that LEAs and IHEs must execute may also include IHEs that are not participating in the project, if applicable. We make this change so that the requirement does not inadvertently discourage projects from entering into agreements with IHEs that are not participating in the project.

Changes: We modified Application Requirement 4 to indicate that the articulation and credit transfer agreements may include IHEs that are not participating in the project, if applicable.

Final Priorities

This notice contains five final priorities. We may apply one or more of these priorities for a PIM competition in FY 2023 or in subsequent years.

Final Priorities:

Final Priority 1—Career-Connected High Schools.

To meet this priority, an applicant must submit a detailed 5-year planning and implementation plan to increase the alignment and integration of high school and the first 2 years of postsecondary education in one or more high schools that describes the extent to which the applicant is currently implementing career-connected learning, with supporting data if available; and describes how the applicant will substantially increase the proportion of students who graduate from high school with one or more of the following four keys of career connected learning:

(a) Education and career goals documented in a personalized postsecondary education and career plan (as defined in this notice) that was updated in each year of high school through a system of career guidance and academic counseling (as defined in section 3(7) of Perkins V) and postsecondary education navigation supports that offers college and career coaching from trained advisors that is culturally responsive and informed by accurate and current labor market information;

(b) Postsecondary credits earned from dual or concurrent enrollment programs (as defined in section 3 of Perkins V) that are part of a program of study (as defined by section 3 of Perkins V) that culminates with an associate, bachelor's, or advanced degree, or completion of a Registered Apprenticeship Program;

(c) Work experience gained through participation in one or more work-based learning opportunities (as defined in section 3 of Perkins V) for which they received wages, academic credit, or both; or

(d) An in-demand and high-value industry-recognized credential (as defined in this notice).

Final Priority 2—Partnership Applications.

To meet this priority, an application—

(1) Must be submitted by an applicant that includes one or more partners in each of the following categories except as otherwise indicated:

(A) An LEA(including a public charter school LEA), an area career and technical education school, an educational service agency serving secondary school students, an Indian Tribe, Tribal organization, or Tribal educational agency, eligible to receive assistance under section 131 of Perkins V;

(B) A community or technical college or other IHE eligible to receive assistance under section 132 of Perkins V; and

(C) Two or more business or industry representative partners, which may include representatives of local or regional businesses or industries;

(2) May include any other relevant community stakeholders, such as local workforce development boards, labor-management partnerships, youth-serving organizations, nonprofit organizations, qualified intermediaries, local teachers unions or school staff unions or other representatives of teachers and faculty, and afterschool and summer learning programs; and

(3) Must include a partnership agreement or proposed memorandum of understanding (MOU) among all members of the application, identified at the time of the application, that describes the role of each partner in carrying out the proposed project and the process for a formal MOU to be established.

Final Priority 3—State and Regional Partnerships.

To meet this priority—

(a) State Partnership—A State partnership application—

(1) must be submitted by an applicant that includes one or more partners in each of the following categories except as otherwise indicated:

(A) A State agency, such as an SEA, State higher education agency or system, State workforce development agency, Governor's office, or a State economic development agency; and

(B) An LEA (including a public charter school LEA), an area career and technical education school, an educational service agency, an Indian Tribe, Tribal organization, or Tribal educational agency eligible to receive assistance under section 131 of Perkins V;

(C) A community or technical college or another IHE eligible to receive assistance under section 132 of Perkins V;

(D) Two or more business or industry representative partners, which may include representatives of local or regional businesses or industries; and

(2) May include any other relevant State or community stakeholders, such as local workforce development boards, labor-management partnerships, statewide youth-serving organizations, such as statewide afterschool networks, nonprofit organizations, intermediary organizations, local teachers unions or school staff unions or other representatives of teachers and faculty, and afterschool and summer learning programs; and

(3) Must include a description of how the project will be coordinated among partners and will leverage State resources in the achievement of program outcomes and the partnership's scope of activities that will support development or implementation of one or more of the pillars of career-connected learning, which may include setting up a governance structure to support implementation, reviewing or changing State policies, setting goals, using data to inform decisions, and convening stakeholders; and

(4) Must include a partnership agreement or proposed MOU among all partner entities, identified at the time of the application, that describes the role of each member of the partnership in carrying out the proposed project and the process for a formal MOU to be established.

(b) Regional Partnership—A regional partnership application—

(1) Must be submitted by a partnership that includes one or more members from each of the following categories except as otherwise indicated:

(A) An LEA (including a public charter school that operates as an LEA), an area career and technical education school, an educational service agency, an Indian Tribe, Tribal organization, or Tribal educational agency, eligible to receive assistance under section 131 of Perkins V;

(B) A community or technical college or another IHE eligible to receive assistance under section 132 of Perkins V;

(C) Two or more business or industry representative partners, which may include representatives of local or regional businesses or industries; and

(2) Must propose to serve two or more LEAs in the same State or region;

(3) May include any other relevant community stakeholders, such as local workforce development boards, labor-management partnerships, youth-serving organizations, nonprofit organizations, qualified intermediaries, local teachers unions or school staff unions or other representatives of teachers and faculty, and afterschool and summer learning programs; and

(4) Must include a description of how the project will be coordinated among partners that share a common economic region or labor market area, utilize labor market information to support development or implementation of the four pillars of career-connected learning, and leverage regional, State, or other resources in the achievement of program outcomes; and

(5) Must include a partnership agreement or proposed MOU among all partner entities, identified at the time of the application, that describes the role of each member of the partnership in carrying out the proposed project and the process for a formal MOU to be established.

Final Priority 4—Serving Students from Families with Low Incomes.

To meet this priority, applicants must submit a plan to predominantly serve students from families with low incomes.

The plan must include—

(a) The specific activities the applicant proposes to ensure that the project will predominantly serve students from low-income families, including how the project will recruit and retain students and the supports it will provide to students to promote retention and completion;

(b) The timeline for implementing the activities;

(c) The parties responsible for implementing the activities;

(d) The key data sources and measures demonstrating that the project is designed to predominantly serve students from low-income families; and

(e) Evidence that at least 51 percent of the students to be served by the project are from low-income families.

(1) When demonstrating that the project is designed to predominantly serve secondary students from low-income families, the applicant must use one or more of the following data sources and measures:

(A) Children aged 5 through 17 in poverty counted in the most recent census data approved by the Secretary; ²²

²² The U.S. Census Bureau LEA poverty estimates are available at: www.census.gov/data/datasets/2017/demo/saipe/2017-school-districts.html.

(B) Students eligible for a free or reduced-price lunch under the Richard B. Russell National School Lunch Act (42 U.S.C. 1751 et seq.);

(C) Students whose families receive assistance under the State program funded under part A of title IV of the Social Security Act (42 U.S.C. 601 et seq.);

(D) Students who are eligible to receive medical assistance under the Medicaid program;

(E) Residence in a Census tract, a set of contiguous Census tracts, an American Indian Reservation, Oklahoma Tribal Statistical Area (as defined by the U.S. Census Bureau), Alaska Native Village Statistical Area or Alaska Native Regional Corporation Area, Native Hawaiian Homeland Area, or other Tribal land as defined by the Secretary of Labor in guidance, or a county that has a poverty rate of at least 25 percent as set every 5 years using American Community Survey 5-year data; or

(F) A composite of such indicators.

(2) When demonstrating that the project is designed to predominantly serve secondary students from low-income families, applicants may use data from elementary or middle schools that feed into a secondary school to establish that 51 percent of the students to be served by the project are students from low-income families.

(3) For projects that will serve postsecondary students, the applicant must use one or more of the following data sources to demonstrate that the project is designed to predominantly serve students from families with low-incomes:

(A) Students who are recipients of Federal Pell Grants, tuition assistance from the Bureau of Indian Education, or need-based State student aid;

(B) Students who receive, or whose families receive, assistance under the State program funded under part A of title IV of the Social Security Act (42 U.S.C. 601 et seq.);

(C) Students who are eligible to receive medical assistance under the Medicaid program; or

(D) A composite of such indicators.

Final Priority 5—Rural Communities.

To meet this priority, an applicant must demonstrate that the proposed project will serve students residing in rural communities (as defined in this notice) and identify, by name, the National Center for Education Statistics (NCES) LEA identification number, and NCES locale code, the rural LEA(s) that it proposes to serve in its grant application. Applicants may retrieve locale codes from the NCES School District search tool (nces.ed.gov/ccd/districtsearch/).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Final Requirements

Final Program Requirements.

This document contains five final program requirements. These final program requirements are related to the matching requirement in section 114(e)(2) of Perkins V, the programs of study offered to students by each project, the independent evaluation (as defined in this notice) required by section 114(e)(8) of Perkins V, a final MOU, and a project implementation plan and timeline. We may apply these requirements in any year in which this program is in effect.

1. Matching Contributions.

(a) A grantee must provide from non-Federal sources (e.g., State, local, or private sources), an amount equal to not less than 50 percent of funds provided under the grant, which may be provided in cash or through in-kind contributions, to carry out activities supported by the grant, except that the Secretary may waive the matching funds requirement, on a case-by-case basis, upon a showing of exceptional circumstances, such as (but not limited to)—

(1) The difficulty of raising matching funds for a program to serve a rural area.

(2) The difficulty of raising matching funds on Tribal land.

(3) The difficulty of raising matching funds in areas with a concentration of LEAs or schools with a high percentage of students aged 5 through 17—

(A) who are living in poverty, as counted in the most recent census data approved by the Secretary;

(B) who are eligible for a free or reduced-price lunch under the Richard B. Russell National School Lunch Act (42 U.S.C. 1751 et seq.);

(C) whose families receive assistance under the State program funded under part A of title IV of the Social Security Act (42 U.S.C. 601 et seq.); or

(D) who are eligible to receive medical assistance under the Medicaid program.

(4) The difficulty of raising matching funds by an institution of higher education that, during the current or preceding year, has been granted a waiver by the Department of certain non-Federal cost-sharing requirements under the Federal Work Study program, the Federal Supplemental Educational Opportunity Grants program, or the TRIO Student Support Services program because it has low education and general expenditures and serves a large proportion of students receiving need-based assistance under Title IV of the Higher Education Act.

(b) Non-Federal funds used by a grantee to support activities allowable under this program prior to its receipt of the grant may be used to meet the matching requirements of this program. The prohibition against supplanting non-Federal funds in section 211(a) of Perkins V applies to grant funds provided under this program but does not apply to the matching requirement.

(c) Matching funds provided by a grantee may be met over the full duration of the grant award period, rather than per year, except that the grantee must make progress towards meeting the matching requirement in each year of the grant award period.

2. Programs of Study.

By no later than the end of the first year of the project, courses in programs of study offered by grantees to students for completion during high school must be designed to meet the entrance requirements and expectations for placement in credit-bearing coursework at public, in-state IHEs. Dual enrollment courses must confer postsecondary credit. The programs of study offered to students by grantees may include opportunities to attain an industry-recognized credential or a postsecondary certificate that participating students may earn during high school but must culminate with an associate, bachelor's, or advanced degree, or completion of a Registered Apprenticeship Program, upon completion of additional postsecondary education after high school graduation.

3. Independent Evaluation.

(a) The independent evaluation (as defined in this notice) supported by a grantee must, in accordance with instructions and definitions provided by the Secretary, report annually the number and percentage of students who graduated from high schools served by the proposed project who, prior to or upon graduation—

(1) Earned, through their successful participation in dual or concurrent enrollment programs in academic or career and technical education subject areas—

(i) any postsecondary credits; and, separately,

(ii) 12 or more postsecondary credits that are part of a program of study (as defined by section 3 of Perkins V) that culminates with an associate, bachelor's, or advanced degree, or completion of a Registered Apprenticeship Program.

(2) Completed 40 or more hours of work-based learning for which they received wages or academic credit, or both.

(3) Attained an industry-recognized credential that is in-demand in the local, regional, or State labor market and associated with one or more jobs with median earnings that exceed the median earnings of a high school graduate.

(4) Met, in each year of high school, with a school counselor, college adviser, career coach, or other appropriately trained adult for education and career counseling during which they reviewed and updated a personalized postsecondary educational and career plan (as defined by this notice).

(b) The outcomes described in paragraph (a) must be disaggregated by—

(1) Subgroups of students, described in section 1111(c)(2)(B) of the ESEA; and

(2) Special populations, as defined by section 3(48) of Perkins V;

(3) Sex; and

(4) Each CTE program and program of study (as defined by section 3 of Perkins V).

(c) The independent evaluation (as defined by this notice) supported by grantee must report annually on the extent to which CTE participants (as defined by section 3 of Perkins V) and CTE concentrators (as defined by section 3 of Perkins V) in each CTE program or program of study reflect the demographics of the school, including sex, major racial and ethnic groups, and special populations status.

(d) The independent evaluation (as defined in this notice) supported by a grantee must also report annually on the average number of postsecondary credits earned by students through their successful participation in dual or concurrent enrollment programs in academic or career and technical education subject areas and any project-specific indicators identified by the grantee.

4. Final MOU.

Within 120 days of receipt of its grant award, each grantee that submitted a partnership application must submit a final MOU among all partner entities that describes the roles and responsibilities of the partners in carrying out the project and its activities.

5. Project Implementation Plan and Timeline.

Each grantee must have a project plan that includes an implementation timeline with benchmarks to implement one or more of the four keys to career-connected learning for students served by the project, as described in Priority 1, by no later than the end of the fifth year of the project. Each grantee must submit a report documenting progress on the implementation plan and the timeline on an annual basis.

Final Application Requirements:

This document contains four final application requirements, one relating to matching funds and three related to the course sequences of the programs of study that will be offered to students by the proposed project. We may apply these requirements in any year in which this program is in effect.

1. Demonstration of Matching Funds.

(a) Each applicant must provide from non-Federal sources (e.g., State, local, or private sources) an amount equal to not less than 50 percent of funds provided under the grant, which may be provided in cash or through in-kind contributions, to carry out activities supported by the grant unless it receives a waiver due to exceptional circumstances. The applicant must include in its grant application a budget detailing the source of the matching funds or a request to waive the entirety or a portion of the matching requirement due to exceptional circumstances.

(b) An applicant that is unable to meet the matching requirement must include in its application a request to the Secretary to reduce the matching requirement, including the amount of the requested reduction, the total remaining match contribution, an explanation and evidence of the exceptional circumstances that make it difficult for the applicant to provide matching funds, and an indication as to whether it can carry out its proposed project if the matching requirement is not waived.

2. Programs of Study.

Each applicant must identify and describe in its application the course sequences in the programs of study that will be offered by high schools in the proposed project, including the associate, bachelor's, advanced degree, or certificate of completion of a Registered Apprenticeship that students may earn by completing each program of study, and how students served by the proposed project will have equitable access to such programs of study.

3. Secondary and Postsecondary Alignment and Integration.

Each applicant must describe how it has aligned and integrated or will align and integrate the secondary coursework offered to students in funded projects to meet the entrance requirements and expectations for placement in credit-bearing coursework at public, in-state IHEs. If the alignment and integration has not been achieved at the time of application, this description must include a timeline for completion of this work by the end of the first year of the project, as well as information on the persons who will be responsible for these activities and their roles and qualifications.

4. Articulation and Credit Transfer Agreements.

Each applicant must include in its application an assurance that by no later than the end of the first year of the project, LEAs, and IHEs participating in the project will execute articulation or credit transfer agreements that ensure that postsecondary credits earned by students in dual or concurrent enrollment programs supported by the project will be accepted for transfer at each participating IHE, and other IHEs, if applicable, and count toward the requirements for earning culminating postsecondary credentials for programs of study offered to students through the project.

5. Dual or Concurrent Enrollment Goals.

Each applicant must include in its application a description of how it will substantially increase the proportion of students who graduate from high school with postsecondary credits earned through participation in dual or concurrent enrollment programs and how, over the 60-month project period, it also will seek to increase the average number of postsecondary credits earned by students to 12 or more credits.

Final Definitions

The following definitions apply to this program. We may apply these definitions in any year in which this program is in effect.

Independent evaluation means an evaluation that is designed and carried out independent of and external to the grantee but in coordination with any employees of the grantee who developed a project component that is currently being implemented as part of the grant activities.

Industry-recognized credential means a credential that is—

(a) Developed and offered by, or endorsed by, a nationally recognized industry association or organization representing a sizable portion of the industry sector, or a product vendor;

(b) Awarded in recognition of an individual's attainment of measurable technical or occupational skills; and

(c) Sought or accepted by multiple employers within an industry or sector as a recognized, preferred, or required credential for recruitment, hiring, retention, or advancement.

Personalized postsecondary educational and career plan means a plan, developed by the student and, to the greatest extent practicable, the student's family or guardian, in collaboration with a school counselor or other individual trained to provide career guidance and academic counseling (as defined in section 3(7) of Perkins V), that is used to help establish personalized academic and career goals, explore postsecondary and career opportunities, identify programs of study and work-based learning that advance the student's personalized postsecondary education and career goals, including any comprehensive wraparound support services the student may need to participate in programs of study and work-based learning, and establish appropriate milestones and timelines for tasks important to preparing for success after high school, including applying for postsecondary education and student financial aid, preparing a resume, and completing applications for employment.

Rural community means an area served by an LEA with an urban-centric district locale code of 32, 33, 41, 42, or 43, as determined by the Secretary and defined by the National Center for Education Statistics (NCES) Locale framework.

Final Selection Criteria

(a) Significance.

In determining the significance of the proposed project, the Department considers one or more of the following factors:

(1) The extent to which the proposed project addresses a regional or local labor market need identified through a comprehensive local needs assessment carried out under section 134(c) of Perkins V or labor market information produced by the State or other entity that demonstrates the proposed project will address State, regional, or local labor market needs.

(2) The extent to which the proposed project demonstrates that it will serve students who are predominantly from low-income families, including evidence that at least 51 percent of the students served will be from low-income families.

(3) The extent to which the proposed project addresses significant barriers to enrollment and completion in dual or concurrent enrollment programs and will expand access to these programs for students served by the project.

(b) Quality of the project design.

In determining the quality of the project design, the Department considers one or more of the following factors:

(1) The extent to which the proposed project is likely to be effective in increasing the attainment of postsecondary credits earned through participation in dual or concurrent enrollment programs (as defined by section 3 of Perkins V) by students who are not currently participating in such programs and the likely magnitude of the increase.

(2) The extent to which the proposed project will increase the successful participation in work-based learning opportunities (as defined by section 3 of Perkins V) for which they received wages or academic credit, or both, prior to graduation by students who are not currently participating in such opportunities, and the likely magnitude of the increase.

(3) The extent to which the proposed project is likely to be effective in increasing successful participation in opportunities to attain an in-demand and high-value industry-recognized credential (as defined in this notice) that is sought or accepted by multiple employers within an industry or sector as a recognized, preferred, or required credential for recruitment, hiring, retention, or advancement by students who are not currently participating in such opportunities, and the likely magnitude of the increase.

(4) The extent to which the proposed project will implement strategies that are likely to be effective in eliminating or mitigating barriers to the successful participation by all students in dual or concurrent programs (as defined by section 3 of Perkins V), work-based learning opportunities (as defined by section 3 of Perkins V), and opportunities to attain in-demand and high-value industry-recognized credentials (as defined in this notice), including such barriers as the out-of-pocket costs of tuition, books, and examination fees; transportation; and eligibility requirements that do not include multiple measures of assessing academic readiness.

(5) The extent to which the proposed project will provide all students effective and ongoing career guidance and academic counseling (as defined by section 3 of Perkins V) in each year of high school that—

(A) Will likely result, by no later than the end of the second year of the project, in a personalized postsecondary education and career plan (as defined in this notice) for each student that is updated at least once annually with the assistance of a school counselor, career coach, mentor, or other adult trained to provide career guidance and counseling to high school students; and

(B) Includes the provision of current labor market information about careers in high-demand fields that pay living wages; advice and assistance in identifying, preparing for, and applying for postsecondary educational opportunities; information on Federal student financial aid programs; and assistance in applying for Federal student financial aid.

(6) The extent to which the proposed project is likely to prepare all students served by the project to enroll in postsecondary education following high school without need for remediation.

(c) Quality of the management plan.

In determining the quality of the management plan, the Department considers one or more of the following factors:

(1) The extent to which the project goals are clear, complete, and coherent, and the extent to which the project activities constitute a complete plan aligned to those goals, including the identification of potential risks to project success and strategies to mitigate those risks;

(2) The extent to which the management plan articulates key responsibilities for each party involved in the project and also articulates well-defined objectives, including the timelines and milestones for completion of major project activities, the metrics that will be used to assess progress on an ongoing basis, and annual performance targets the applicant will use to monitor whether the project is achieving its goals;

(3) The adequacy of the project's staffing plan, particularly for the first year of the project, including:

(A) The identification of the project director and, in the case of projects with unfilled key personnel positions at the beginning of the project, a description of how critical work will proceed; and

(B) The extent to which the project director has experience managing projects similar in scope to that of the proposed project.

(4) The extent of the demonstrated commitment of any partners whose participation is critical to the project's long-term success, including the extent of any evidence of support or specific resources from employers and other stakeholders.

(5) The extent to which employers in the labor market served by the proposed project will be involved in making decisions with respect to the project's implementation and in carrying out its activities.

(d) Support for rural communities.

In determining the extent of the project's support for rural communities, the Department considers one or more of the following factors:

(1) The extent to which the applicant presents a clear, well-documented plan for primarily serving students from rural communities.

(2) The extent to which the applicant proposes a project that will improve the education and employment outcomes of students in rural communities.

This notice does not preclude us from proposing additional priorities, requirements, definitions, or selection criteria, subject to meeting applicable rulemaking requirements.

Note: This notice does not solicit applications. In any year in which we choose to use one or more of these priorities, requirements, definitions, or selection criteria, we invite applications through a notice in the Federal Register.

Executive Orders 12866, 13563, and 14094

Regulatory Impact Analysis

Under Executive Order 12866, as modified by Executive Order 14094, the Secretary must determine whether this regulatory action is “significant” and, therefore, subject to the requirements of the Executive Order and subject to review by the Office of Management and Budget (OMB). Section 3(f) of Executive Order 12866, as modified, defines a “significant regulatory action” as an action likely to result in a rule that may—

(1) Have an annual effect on the economy of $200 million or more (adjusted every 3 years by the Administrator of OIRA for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise novel legal or policy issues for which centralized review would meaningfully further the President's priorities or the principles stated in the Executive Order, as specifically authorized in a timely manner by the Administrator of OIRA in each case.

This proposed regulatory action is not a significant regulatory action subject to review by OMB under section 3(f) of Executive Order 12866, as modified.

We have also reviewed this proposed regulatory action under Executive Order 13563, which supplements and explicitly reaffirms the principles, structures, and definitions governing regulatory review established in Executive Order 12866, as modified. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, territorial, and Tribal governments in the exercise of their governmental functions.

In accordance with these Executive orders, the Department has assessed the potential costs and benefits, both quantitative and qualitative, of this regulatory action. The potential costs are those resulting from statutory requirements and those we have determined as necessary for administering the Department's programs and activities.

Summary of Costs and Benefits: The Department believes that these final priorities, requirements, definitions, and selection criteria will not impose significant costs on applicants applying for assistance under section 114 of Perkins V. We also believe that the benefits of implementing the final priorities, requirements, definitions, and selection criteria justify any associated costs.

The Department believes that the final priorities, requirements, definitions, and selection criteria will help to ensure that grants provided under section 114(e) of Perkins V are awarded only for allowable, reasonable, and necessary costs; and eligible applicants consider carefully in preparing their applications how the grants may be used to improve student success in secondary education, postsecondary education, and careers. The final priorities, program requirements, definitions, and selection criteria are necessary to ensure that taxpayer funds are expended appropriately.

The Department further believes that the costs imposed on an applicant by the final priorities, requirements, definitions, and selection criteria will be largely limited to the paperwork burden related to meeting the application requirements and that the benefits of preparing an application and receiving an award would justify any costs incurred by the applicant. The costs of these final priorities, requirements, definitions, and selection criteria will not be a significant burden for any eligible applicant.

Elsewhere in this section under Paperwork Reduction Act of 1995, we identify and explain burdens specifically associated with information collection requirements.

Regulatory Alternatives Considered

The Department believes that the final priorities, requirements, definitions, and selection criteria in this notice are needed to administer the PIM grant program effectively. The priorities, requirements, definitions, and selection criteria will enable the Department to administer a competitive grant program consistent with the intent of Congress as expressed in House Report 117-403 accompanying the Consolidated Appropriations Act, 2023. (Pub. L. 117-328), which provided funding for the program in fiscal year 2023.

Accounting Statement

As required by OMB Circular A-4 (available at https://www.whitehouse.gov/omb/information-for-agencies/circulars/), in the following table we have prepared an accounting statement showing the classification of the expenditures associated with the provisions of this regulatory action. This table provides our best estimate of the changes in annual monetized transfers as a result of this regulatory action. Expenditures are classified as transfers from the Federal Government to LEAs and IHEs.

Accounting Statement Classification of Estimated Expenditures
[In millions]
Category | Transfers
Annualized Monetized Transfers | $24.25.
From Whom To Whom? | from the Federal Government to LEAs and IHEs.

Regulatory Flexibility Act Certification: The Secretary certifies that this regulatory action does not have a significant economic impact on a substantial number of small entities. The U.S. Small Business Administration (SBA) Size Standards define “small entities” as for-profit or nonprofit institutions with total annual revenue below $7,000,000 or, if they are institutions controlled by small governmental jurisdictions (that are comprised of cities, counties, towns, townships, villages, school districts, or special districts), with a population of less than 50,000. The small entities that this regulatory action affects are school districts and IHEs. We believe that the costs imposed on an applicant by the final priorities, requirements, definitions, and selection criteria are limited to paperwork burden related to preparing an application and that the benefits of the final priorities, requirements, definitions, and selection criteria will outweigh any costs incurred by the applicant.

Participation in the PIM grant program is voluntary. For this reason, the final priorities, requirements, definitions, and selection criteria will not impose a burden on small entities unless they apply for funding under the program. We expect that in determining whether to apply for program funds, an eligible entity will evaluate the requirements of preparing an application and any associated costs and weigh them against the benefits likely to be achieved by receiving a program grant. An eligible entity will probably apply only if it determines that the likely benefits exceed the costs of preparing an application.

We believe that the final priorities, requirements, definitions, and selection criteria will not impose any additional burden on a small entity applying for a grant than the entity would face in the absence of the action. That is, the length of the applications those entities would submit in the absence of the regulatory action and the time needed to prepare an application would likely be the same.

This regulatory action will not have a significant economic impact on a small entity once it receives a grant because it will be able to meet the costs of compliance using the funds provided under this program.

Paperwork Reduction Act

The Paperwork Reduction Act of 1995 does not require you to respond to a collection of information unless it displays a valid OMB control number. We display the valid OMB control number assigned to the collection of information in this notice of final priorities, requirements, definitions, and selection criteria at the end of the affected sections of the requirements.

The final priorities, requirements, definitions, and selection criteria contain information collection requirements that are approved by OMB. The final priorities, requirements, definitions, and selection criteria do not affect the currently approved data collection. For the years that the Department holds a PIM grant competition, we estimate 150 entities will submit an application for Federal assistance using the required Department standard application forms. We estimate that it will take each applicant 40 hours to complete and submit the application, including time for reviewing instructions, searching existing data sources, gathering and maintaining the data needed, and completing and reviewing the collection of information. The total burden hour estimate for this collection is 6,000 hours.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: On request to the person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Luke Rhine,
Deputy Assistant Secretary, Delegated the Duties of the Assistant Secretary for Career, Technical, and Adult Education.

[FR Doc. 2023-17227 Filed 8-11-23; 8:45 am]

BILLING CODE 4000-01-P